DEPARTMENT OF COMMERCE

International Trade Administration

[A-549-837]

Glycine From Thailand: Rescission of Antidumping Duty Administrative Review; 2019-2020

AGENCY: Enforcement and Compliance, International Trade Administration, Department of Commerce.

SUMMARY: The Department of Commerce (Commerce) is rescinding the administrative review of the antidumping duty order on glycine from Thailand for the period August 5, 2019, through September 30, 2020, based on the timely withdrawal of the request for review.

DATES: Applicable February 1, 2021.

FOR FURTHER INFORMATION CONTACT: Brian Smith or Alexis Cherry, AD/CVD Operations, Office VIII, Enforcement and Compliance, International Trade Administration, Department of Commerce, 1401 Constitution Avenue NW, Washington, DC 20230; telephone: 202-482-1766 or (202) 482-0607, respectively.

SUPPLEMENTARY INFORMATION:

Background

On October 1, 2020, Commerce published a notice of opportunity to request an administrative review of the antidumping duty order on glycine from Thailand for the period August 5, 2019, through September 30, 2020.¹ On November 2, 2020, the petitioner ² filed a timely request for review with respect to one company, Newtrend Food Ingredient (Thailand) Co., Ltd. (Newtrend).³ Commerce received no other requests for an administrative review of the antidumping duty order. Based on the petitioner's request, on December 8, 2020, in accordance with section 751(a) of the Tariff Act of 1930, as amended (the Act), and 19 CFR 351.213(b), Commerce published in the Federal Register a notice of initiation of an administrative review of the antidumping duty order on glycine from Thailand covering Newtrend during the period August 5, 2019, through September 30, 2020.⁴ On January 12, 2021, the petitioner withdrew its request for an administrative review with respect to Newtrend.⁵

¹ See Antidumping or Countervailing Duty Order, Finding, or Suspended Investigation; Opportunity To Request Administrative Review, 85 FR 61926 (October 1, 2020).

² The petitioner is GEO Specialty Chemicals, Inc.

³ See Petitioner's Letter, “Glycine from Thailand (A-549-837): Request for Administrative Review,” dated November 2, 2020.

⁴ See Initiation of Antidumping and Countervailing Duty Administrative Reviews, 85 FR 78990 (December 8, 2020) (Initiation Notice).

⁵ See Petitioner's Letter, “Glycine from Thailand (A-549-837): Withdrawal of Request for Administrative Review,” dated January 12, 2021.

Rescission of Administrative Review

Pursuant to 19 CFR 351.213(d)(1), Commerce will rescind an administrative review, in whole or in part, if the party that requested the review withdraws its request within 90 days of the date of publication of the notice of initiation of the requested review. As noted above, the petitioner timely withdrew its review request by the 90-day deadline, and no other party requested an administrative review of the antidumping duty order. Therefore, in accordance with 19 CFR 351.213(d)(1), we are rescinding the administrative review of the antidumping duty order on glycine from Thailand for the period August 5, 2019, through September 30, 2020, in its entirety.

Assessment

Commerce will instruct U.S. Customs and Border Protection (CBP) to assess antidumping duties on all appropriate entries of glycine from Thailand at a rate equal to the cash deposit of estimated antidumping duties required at the time of entry, or withdrawal from warehouse, for consumption, during the period August 5, 2019, through September 30, 2020, in accordance with 19 CFR 351.212(c)(1)(i). Commerce intends to issue assessment instructions to CBP no earlier than 35 days after the date of publication of this rescission notice in the Federal Register.

Notification to Importers

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of doubled antidumping duties.

Notification Regarding Administrative Protective Order

This notice also serves as a reminder to parties subject to administrative protective order (APO) of their responsibility concerning the disposition of proprietary information disclosed under APO in accordance with 19 CFR 351.305(a)(3). Timely written notification of the return or destruction of APO materials, or conversion to judicial protective order is hereby requested. Failure to comply with the regulations and terms of an APO is a violation which is subject to sanction.

This notice is issued and published in accordance with sections 751(a)(1) and 777(i)(1) of the Act and 19 CFR 351.213(d)(4).

Dated: January 27, 2021.
James Maeder,
Deputy Assistant Secretary for Antidumping and Countervailing Duty Operations.

[FR Doc. 2021-02083 Filed 1-29-21; 8:45 am]

BILLING CODE 3510-DS-P